Proclamation 10033 of May 8, 2020

Mother's Day, 2020

By the President of the United States of America

A Proclamation

On Mother's Day, we celebrate the exceptional mothers in our lives. It is through the unwavering love, comfort, and guidance of these extraordinary women that we first learn to experience joy and the wonders of life. Whether they became mothers through birth, adoption, foster care, or other means, these women are deserving of our unending gratitude and praise this day and every day.

The intuition and wisdom passed from mother to child strengthens the fabric of our Nation and preserves generations of wisdom and familial values. In our earliest days, our mothers provide us with love and nurturing care. They often know our talents before we do, and they selflessly encourage us to use these God-given gifts to pursue our biggest dreams and most admirable ambitions. As we grow, our mothers teach us to be productive, contributing members of society and to care for one another as they have cared for us. As life-long supporters, mothers provide reassurance and guidance when needed most. President Abraham Lincoln described this spirit of compassion: “I remember my mother's prayers and they have always followed me. They have clung to me all my life.” Our mothers embrace us for who we are and help guide us to who we are meant to be. They advocate for us and counsel us, and above all else provide us with a steadfast and enduring love each day.

Today, on Mother's Day, we celebrate mothers everywhere and thank them for all that they do to enrich our lives, honoring how they raise us with a special grace and endurance. Their character, courage, and compassion are gifts that transcend time and span generations. May today be filled with the joy of knowing their contributions to our society are immeasurable, and their love for us does not go unnoticed or unappreciated.

In recognition of the contributions of mothers to American families and to our Nation, the Congress, by joint resolution approved May 8, 1914 (38 Stat. 770), has designated the second Sunday in May each year as Mother's Day, and requested the President to call for its appropriate observance.

NOW, THEREFORE, I, DONALD J. TRUMP, President of the United States of America, by virtue of the authority vested in me by the Constitution and the laws of the United States, do hereby proclaim May 10, 2020, as Mother's Day. I encourage all Americans to express their love and respect for their mothers or beloved mother figures, whether with us in person or in spirit, and to reflect on the importance of motherhood to the prosperity of our families, communities, and Nation.

IN WITNESS WHEREOF, I have hereunto set my hand this eighth day of May, in the year of our Lord two thousand twenty, and of the Independence of the United States of America the two hundred and forty-fourth.

[FR Doc. 2020-10434

Filed 5-12-20; 11:15 am]

Billing code 3295-F0-P